DEPARTMENT OF ENERGY

Federal Energy Regulatory Commission

Combined Notice of Filings #1

March 20, 2008.

Take notice that the Commission received the following electric corporate filings:

Docket Numbers: EC08-54-000.

Applicants: Western Kentucky Energy Corp.,E.ON U.S. LLC.

Description: Application of Western Kentucky Energy Corp's et al. application requesting that FERC authorize or disclaim jurisdiction over the transactions.

Filed Date: 03/14/2008.

Accession Number: 20080319-0228.

Comment Date: 5 p.m. Eastern Time on Friday, April 04, 2008.

Take notice that the Commission received the following exempt wholesale generator filings:

Docket Numbers: EG08-48-000.

Applicants: Standard Binghamton LLC.

Description: Amendment to Application of Standard Binghamton LLC.

Filed Date: 03/19/2008.

Accession Number: 20080319-5041.

Comment Date: 5 p.m. Eastern Time on Wednesday, April 09, 2008.

Take notice that the Commission received the following electric rate filings:

Docket Numbers: ER06-1331-002; ER01-2543-004; ER01-2544-004; ER01-2545-004; ER01-2546-004; ER01-2547-004; ER03-1182-005; ER04-698-005; ER99-415-015.

Applicants: CalPeak Power LLC; CalPeak Power-Panoche LLC; CalPeak Power-Vaca Dixon LLC; CalPeak Power-El Cajon LLC; Calpeak Power-Enterprise, LLC; Calpeak Power-Border, LLC; Tyr Energy, LLC; Tor Power, LLC; Commonwealth Chesapeake Company LLC.

Description: CalPeak Power LLC et al. submits a notice of non-material change in status in compliance with FERC's Order 652 under ER06-1331 et al.

Filed Date: 03/14/2008.

Accession Number: 20080319-0057.

Comment Date: 5 p.m. Eastern Time on Friday, April 04, 2008.

Docket Numbers: ER07-397-003.

Applicants: ISO New England Inc.

Description: ISO New England Inc et al. submits their report showing the amounts refunded in accordance with Section V A-4 of Schedule 2 of the ISO's Open Access Transmission Tariff.

Filed Date: 03/17/2008.

Accession Number: 20080319-0046.

Comment Date: 5 p.m. Eastern Time on Monday, April 07, 2008.

Docket Numbers: ER08-411-003.

Applicants: Tiger Natural Gas, Inc.

Description: Tiger Natural Gas, Inc submits Substitute Original Sheet 1 to FERC Electric Tariff, Original Volume 1.

Filed Date: 02/29/2008.

Accession Number: 20080320-0339.

Comment Date: 5 p.m. Eastern Time on Monday, March 31, 2008.

Docket Numbers: ER08-507-000.

Applicants: Virginia Electric and Power Company.

Description: Notice of Virginia Electric and Power Company of Withdrawal of Notice of Cancellation.

Filed Date: 03/19/2008.

Accession Number: 20080319-5070.

Comment Date: 5 p.m. Eastern Time on Wednesday, April 09, 2008.

Docket Numbers: ER08-525-001.

Applicants: PacifiCorp.

Description: PacifiCorp submits Extension Letter Agreement for Rate Schedule 35 for use of Facilities Agreement between the United States of America, Bureau of Reclamations and PacifiCorp.

Filed Date: 03/14/2008.

Accession Number: 20080318-0006.

Comment Date: 5 p.m. Eastern Time on Friday, April 04, 2008.

Docket Numbers: ER08-537-001.

Applicants: Safe Harbor Water Power Corporation.

Description: Safe Harbor Water Power Corporation submits Substitute Original Sheet 2 of its market-based rate tariff, effective 3/1/08, which reflects revisions to its tariff as requested by FERC.

Filed Date: 03/18/2008.

Accession Number: 20080320-0029.

Comment Date: 5 p.m. Eastern Time on Tuesday, April 08, 2008.

Docket Numbers: ER08-609-001.

Applicants: Endure Energy, L.L.C.

Description: Endure Energy LLC submits amended petition for acceptance of initial tariff, waivers and blanket authority.

Filed Date: 03/18/2008.

Accession Number: 20080320-0028.

Comment Date: 5 p.m. Eastern Time on Monday, March 31, 2008.

Docket Numbers: ER08-676-000.

Applicants: Winnebago Windpower LLC.

Description: Application of Winnebago Windpower LLC for order accepting initial tariff etc.

Filed Date: 03/17/2008.

Accession Number: 20080318-0014.

Comment Date: 5 p.m. Eastern Time on Monday, April 07, 2008.

Docket Numbers: ER08-680-000.

Applicants: Arizona Public Service Company.

Description: Arizona Public Service Company submits First Revised Sheet 1-67 et al. to FERC Electric Tariff, Volume 5.

Filed Date: 03/17/2008.

Accession Number: 20080319-0048.

Comment Date: 5 p.m. Eastern Time on Monday, April 07, 2008.

Docket Numbers: ER08-682-000.

Applicants: Idaho Power Company.

Description: Idaho Power Company submits certain modifications to non-rate terms and conditions in its Open Access Transmission Tariff, to be effective 3/17/08.

Filed Date: 03/18/2008.

Accession Number: 20080320-0027.

Comment Date: 5 p.m. Eastern Time on Tuesday, April 08, 2008.

Docket Numbers: ER08-683-000.

Applicants: The United Illuminating Company.

Description: The United Illuminating Company submits proposed modifications to Schedule 21-UI of the ISO New England Inc Transmission, Markets and Services Tariff.

Filed Date: 03/18/2008.

Accession Number: 20080320-0030.

Comment Date: 5 p.m. Eastern Time on Tuesday, April 08, 2008.

Docket Numbers: ER08-684-000.

Applicants: Southwest Power Pool, Inc.

Description: Southwest Power Pool Inc submits two executed Service Agreements for the Reassignment of Long-Term Firm Point-to-Point Transmission Service with Bear Energy LP as the Assignee.

Filed Date: 03/18/2008.

Accession Number: 20080320-0031.

Comment Date: 5 p.m. Eastern Time on Tuesday, April 08, 2008.

Docket Numbers: ER08-686-000.

Applicants: PEPCO Holdings, Inc.; Potomac Electric Power Company; Delmarva Power & Light Company; Atlantic City Electric Company.

Description: Pepco Holding Inc et al. submits Second Revised Sheet 298E et al., Sixth Revised Volume 1 to the Open Access Transmission Tariff of PJM Interconnection, LLC.

Filed Date: 03/18/2008.

Accession Number: 20080320-0034.

Comment Date: 5 p.m. Eastern Time on Tuesday, April 08, 2008.

Docket Numbers: ER08-687-000.

Applicants: Stockton CoGen Company.

Description: Stockton CoGen Company submits an application requesting that FERC accept their FERC Electric Tariff, Original Volume 1, to become effective 3/20/08.

Filed Date: 03/19/2008.

Accession Number: 20080320-0033.

Comment Date: 5 p.m. Eastern Time on Wednesday, April 09, 2008.

Docket Numbers: ER99-2948-013; ER00-2918-012; ER00-2917-012; ER97-2261-023; ER01-556-011; ER01-1654-014; ER02-2567-012; ER02-699-006; ER04-485-009; ER07-247-004; ER07-245-004; ER07-244-004.

Applicants: Baltimore Gas and Electric Company; Constellation Pwr Source Generation LLC; Calvert Cliffs Nuclear Power Plant, Inc.; Constellation Energy Commodities Group; Handsome Lake Energy, LLC; Nine Mile Point Nuclear Station, LLC; Constellation NewEnergy, Inc.; Constellation Energy Commodities Group Maine, LLC; R.E. Ginna Nuclear Power Plant, LLC; Raven One, LLC; Raven Two, LLC; Raven Three, LLC.

Description: Baltimore Gas and Electric Company et al. submits notice of change in status.

Filed Date: 03/17/2008.

Accession Number: 20080319-0045.

Comment Date: 5 p.m. Eastern Time on Monday, April 07, 2008.

Take notice that the Commission received the following open access transmission tariff filings:

Docket Numbers: OA08-69-001.

Applicants: Tucson Electric Power Company.

Description: Errata to Order No. 890-A OATT Filing of Tucson Electric Power Company.

Filed Date: 03/20/2008.

Accession Number: 20080320-5027.

Comment Date: 5 p.m. Eastern Time on Thursday, April 10, 2008.

Docket Numbers: OA08-80-000.

Applicants: Arizona Public Service Company.

Description: Arizona Public Service Co submits their compliance filing, with changes to its Fourteenth Revised Volume 2 Open Access Transmission Tariff.

Filed Date: 03/17/2008.

Accession Number: 20080318-0058.

Comment Date: 5 p.m. Eastern Time on Monday, April 07, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

Editorial Note: This document was received in the Office of the Federal Register on July 24, 2008.

[FR Doc. E8-17335 Filed 7-25-08; 8:45 am]

BILLING CODE 6717-01-P